DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for June 17 and 18, 2003, beginning at 8:30 a.m. on June 17. Arrange for oral presentations by June 12.

ADDRESS: Homewood Suites, 6955 Ft. Bent Way, Tukwila, WA 98188.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held June 17-18 in Renton, WA.

The agenda will include:

June 17

• Opening Remarks

• FAA Report

• Joint Aviation Authorities Report

• Transport Canada Report

• Executive Committee Report

• Harmonization Management Team Report

• ARAC Tasking Priorities Discussion/Moratorium

• Mechanical Systems Harmonization (HWG) Report

• Ice Protection HWG Report

• Powerplant Installation HWG Report

• Human Factors HWG Report

• Design for Security HWG Report

June 18

• General Structures HWG Report and Approval

• Airworthiness Assurance Working Group Report and Approval

• Avionics HWG Report

• Written or verbal reports may be provided for the Continued Airworthiness and Extended Range Operations Working Groups, and the following HWGs: Engine, Electromagnetic Effects, Flight Test, Seat Test, Flight Control, Flight Guidance, System Design and Analysis, and Electrical Systems.

Two working groups will present documents for approval:

1. The General Structures HWG will seek approval of documents addressing fuel tank access and operations test.

2. The Airworthiness Assurance Working Group will seek approval of a multiple Supplemental Type Certificates report.

Attendance is open to the public, but will be limited to the availability of meeting room space and telephone lines. For those participating by telephone, the call-in number is (425) 227-1570, Passcode: 5555. Details are also available on the ARAC calendar at http://www1.faa.gov/avr/arm/arac/araccalendar.cfm.

To ensure that sufficient telephone lines are available, please notify the person listed in the FOR FURTHER INFORMATION CONTACT section of your intent by June 12. Callers outside the Renton, Washington area will be responsible for paying long distance charges.

The public must make arrangements by June 12 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on May 28, 2003.
Florence L. Hamn,
Acting Director, Office of Rulemaking.

[FR Doc. 03-13901 Filed 6-2-03; 8:45 am]

BILLING CODE 4910-13-P